DEPARTMENT OF HOUSING AND URBAN DEVELOPMENT

[Docket No. FR-5683-N-58]

30-Day Notice of Proposed Information Collection: FHA TOTAL (Technology Open to Approved Lenders) Mortgage Scorecard

AGENCY: Office of the Chief Information Officer, HUD.

ACTION: Notice.

SUMMARY: HUD has submitted the proposed information collection requirement described below to the Office of Management and Budget (OMB) for review, in accordance with the Paperwork Reduction Act. The purpose of this notice is to allow for an additional 30 days of public comment.

DATES: Comments Due Date: August 2, 2013.

ADDRESSES: Interested persons are invited to submit comments regarding this proposal. Comments should refer to the proposal by name and/or OMB Control Number and should be sent to: Brenda Boldridge, U.S. Department of Housing and Urban Development, 451 7th Street SW., Washington, DC 20410; fax: 202-708-XXXX. Email: Brenda.K.Boldridge@hud.gov.

FOR FURTHER INFORMATION CONTACT: Colette Pollard, Reports Management Officer, QDAM, Department of Housing and Urban Development, 451 7th Street SW., Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A. The Federal Register notice that solicited public comment on the information collection for a period of 60 days was published on April 24, 2013.

A. Overview of Information Collection

Title of Information Collection: FHA TOTAL (Technology Open to Approved Lenders) Mortgage Scorecard.

OMB Approval Number: 2502-0556.

Type of Request: Revision.

Form Number: None.

Description of the need for the information and proposed use: The regulation mandating this collection can be found in the Code of Federal Regulations at 24 CFR 203.255(b)(5). This information is necessary to assure that lenders (and automated underwriting system (AUS) vendors) are aware of their obligations regarding use of the TOTAL Mortgage Scorecard and are certifying that they will comply with all pertinent regulations. It also allows FHA to request reports from lenders regarding their use of the scorecard, that they have implemented appropriate quality control procedures for using the scorecard, and provides an appeal mechanism should FHA take an action to terminate a lender's use of the scorecard.

In order to serve its clients better, HUD has made the following non material changes: As part of the FHA Transformation Program, Single Family Housing is moving the TOTAL Scorecard to the Mortgage Industry Standard Maintenance Organization (MISMO) data standards format. The data elements are currently used throughout the industry and are therefore listed as industry standard business practice. The attached document outlines the benefits of converting the data and the mapping phases.

Both FHA Total Scorecard, 2502-0556 and Informed Consumer Choice Notice and Application for FHA Insured Mortgages, 2502-0059 will be affected in the two initial transformation phases and Informed Consumer Choice Notice and Application for FHA Insured Mortgages, 2502-0059 will be affected in the final transformation phase.

MISMO is a not-for-profit subsidiary of the Mortgage Bankers Association (MBA). MISMO's mission is to develop leading technical standards for residential and commercial real estate finance industries that are grounded in an open process to develop, promote and maintain voluntary electronic commerce procedures. The benefits of converting data to the MISMO format include:

• Improving data accuracy and consistency

• Allowing for secure and efficient exchange of information

• Increasing data transparency

• Boosting investor confidence in mortgages

All major lenders and GSEs have already adopted MISMO standards. FHA's transformation to the MISMO data standards will ensure consistency in the delivery of data from the lenders and GSE's.

The data elements that are being mapped to MISMO as part of the FHA Transformation Program, can be categorized under the three following phases; Loan Application, Loan Evaluation, and Loan Closing. The Loan Application and Loan Evaluation phase elements are contained in the 2502-0556 and 2502-0059 OMB data collections. The Loan Closing phase elements are contained in the 2502-0059 OMB data collection.

The first release for the TOTAL Scorecard conversion to MISMO will include all existing TOTAL data fields plus some additional fields that will be utilized by a Risk & Fraud tool that is currently being tested. These additional fields are industry standard and are part of a standard lender's loan application. The data elements in the first release can be categorized under two of the phases mentioned above. The data elements that are currently being collected in the TOTAL Scorecard are part of the Loan Application Phase. The data elements that will be collected through the Risk & Fraud tool are part of the Loan Evaluation Phase.

• Phase Definitions below:

○ Loan Application (Currently collected through the 2502-0556 & 2502-0059 OMB data collections)—Collected by the lenders as part of the application process.

TOTAL data elements

Additional 1003 data elements

Credit Report data elements

○ Loan Evaluation (Currently collected through the 2502—0556 & 2502—0059 OMB data collections)—Collected by the lender and used for scoring, loan underwriting and additional risk & fraud evaluation.

Risk & Fraud Tool data elements

○ Loan Closing (Currently collected through the 2502—0059 OMB data collection)—Collected by the lender at loan closing and used to evaluate whether a loan is endorsed or not by FHA.

Endorsement data elements

eCase Binder data elements

Respondents (describe): Business or other for-profit.

Estimated Number of Respondents: 12,000.

Estimated Number of Responses: 452.

Frequency of Response: On Occasion.

Average Hours per Response: 464.

Total Estimated Burdens: 908.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Authority: Section 3507 of the Paperwork Reduction Act of 1995, 44 U.S.C. Chapter 35.

Dated: June 27, 2013.
Colette Pollard,
Department Reports Management Officer, Office of the Chief Information Officer.

[FR Doc. 2013-15996 Filed 7-2-13; 8:45 am]

BILLING CODE 4210-67-P